NUCLEAR REGULATORY COMMISSION

[Docket No. 72-1050; NRC-2016-0231]

Interim Storage Partners LLC's Consolidated Interim Storage Facility

AGENCY: Nuclear Regulatory Commission.

ACTION: Environmental impact statement; extension of comment period.

SUMMARY: On September 4, 2018, the U.S. Nuclear Regulatory Commission (NRC) published in the Federal Register a notice to reopen the scoping period on the NRC's Environmental Impact Statement (EIS) for the Interim Storage Partners LLC (ISP) proposed consolidated interim storage facility for spent nuclear fuel, to be located on the Waste Control Specialists LLC (WCS) site in Andrews County, Texas. ISP requested on June 8, 2018, that the NRC resume its review, which had been suspended on April 18, 2017, and provided a revised license application. The NRC is extending the public scoping comment period to allow more time for members of the public to develop and submit their comments.

DATES: The due date of comments requested in the document published on September 4, 2018 (83 FR 44922), is extended. Comments should be filed no later than November 19, 2018. Comments received after this date will be considered, if it is practical to do so, but the Commission is able to ensure consideration only for comments received on or before this date.

ADDRESSES: You may submit comments by any of the following methods:

• Federal Rulemaking website: Go to http://www.regulations.gov and search for Docket ID NRC-2016-0231. Address questions about NRC dockets to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

• Email Comments to: You may email scoping comments to the Project's email address: WCS_CISF_EIS@nrc.gov.

For additional direction on obtaining information and submitting comments, see “Obtaining Information and Submitting Comments” in the SUPPLEMENTARY INFORMATION section of this document.

FOR FURTHER INFORMATION CONTACT: James Park, Office of Nuclear Material Safety and Safeguards, U.S. Nuclear Regulatory Commission, Washington, DC 20555-0001; telephone: 301-415-6954; email: James.Park@nrc.gov.

SUPPLEMENTARY INFORMATION:

I. Obtaining Information and Submitting Comments

A. Obtaining Information

Please refer to Docket ID NRC-2016-0231 when contacting the NRC about the availability of information for this action. You may obtain publicly-available information related to this action by any of the following methods:

• Federal Rulemaking Website: Go to http://www.regulations.gov and search for Docket ID NRC-2016-0231.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to PDR.Resource@nrc.gov. Documents related to WCS' license application can be found under NRC Docket Number 72-1050.

• NRC's PDR: You may examine and purchase copies of public documents at the NRC's PDR, Room O1-F21, One White Flint North, 11555 Rockville Pike, Rockville, Maryland 20852.

• Project web page: Information related to the ISP consolidated interim storage facility (CISF) project can be accessed on the NRC's project web page at: https://www.nrc.gov/waste/spent-fuel-storage/cis/waste-control-specialist.html.

B. Submitting Comments

Please include Docket ID NRC-2016-0231 in your comment submission. Comments received during this extended scoping period will be considered by the NRC in determining the scope of the EIS. Scoping comments submitted previously need not be resubmitted during this extended scoping period.

The NRC cautions you not to include identifying or contact information that you do not want to be publicly disclosed in your comment submission. The NRC will post all comment submissions at https://www.regulations.gov/ as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On April 28, 2016, WCS submitted a license application to NRC for a proposed CISF for spent nuclear fuel. The NRC accepted the WCS application for detailed review on January 26, 2017. On November 14, 2016 (81 FR 79531), the NRC opened the public scoping period for its EIS on the WCS license application. On April 18, 2017, WCS requested that NRC temporarily suspend its review. The EIS public scoping comment period closed on April 28, 2017.

On June 8, 2018, ISP (a joint venture between WCS and Orano CIS LLC) requested that NRC resume its detailed review and submitted a revised CISF license application. On July 19, 2018, ISP provided an update to its application. On September 4, 2018 (83 FR 44922), the NRC reopened the scoping period for its EIS, with comments to be submitted by October 19, 2018.

III. Extending Public Comment Scoping Period

The NRC is extending the public comment scoping period to November 19, 2018.

Dated at Rockville, Maryland, this 15th day of October, 2018.
For the Nuclear Regulatory Commission.
Brian W. Smith,
Acting Director, Division of Fuel Cycle Safety, Safeguards, and Environmental Review, Office of Nuclear Material Safety and Safeguards.

[FR Doc. 2018-22810 Filed 10-18-18; 8:45 am]

BILLING CODE 7590-01-P